DEPARTMENT OF THE INTERIOR

Bureau of Land Management

[223.LLIDB00000.L18200000.XZ0000.241A00.4500160754]

Notice of Mailing/Street Address Change for the BLM-Owyhee Field Office and Ware Yard

AGENCY: Bureau of Land Management, Interior.

ACTION: Notice.

SUMMARY: This notice announces changes to the mailing and street address for the Bureau of Land Management (BLM) Owyhee Field Office and Ware Yard.

DATES: The date for the changes will be on or about June 6, 2022.

FOR FURTHER INFORMATION CONTACT: Mike Williamson, Public Affairs Specialist, BLM Boise District; 208-384-3393; mwilliamson@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION: The mailing and street address for the Bureau of Land Management (BLM) Owyhee Field Office and Ware Yard will be changed from 20 1st Ave. W, Marsing, Idaho 83639, to 101 South Bruneau Highway, Marsing, Idaho 83639.

Authority: Departmental Manual 382, Chapter 2.1.

Karen Kelleher,
BLM Idaho State Director.

[FR Doc. 2022-10781 Filed 5-18-22; 8:45 am]

BILLING CODE 4310-GG-P